DEPARTMENT OF ENERGY

Federal Energy Regulatory Commission

[Docket No. IC22-28-000]

Commission Information Collection Activities (FERC-511); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection FERC-511 (Transfer of Hydropower License).

DATES: Comments on the collection of information are due November 21, 2022.

ADDRESSES: You may submit your comments (identified by Docket No. IC22-28-000) by one of the following methods:

Electronic filing through https://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) delivery: Addressed to: Federal Energy Regulatory Commission, Secretary of the Commission,12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov, telephone at (202) 502-8663.

SUPPLEMENTARY INFORMATION:

Title: FERC-511, Transfer of Hydropower License.¹

¹ The title is being updated to Transfer of Hydropower License (rather than Transfer of Electric License).

OMB Control No.: 1902-0069.

Type of Request: Three-year extension of the FERC-511 information collection requirements with no changes to the current reporting and recordkeeping requirements.

Abstract: The purpose of FERC-511 is to implement the information collections pursuant to section 8 of the Federal Power Act (FPA) and Code of Federal Regulations (CFR) under title 18 CFR part 9 (Transfer of License) sections 9.1 through 9.3 and section 131.20 of the 18 CFR. Section 8 of the FPA stipulates that no voluntary transfer of any license, or the rights thereunder granted, shall be made without the written approval of the Commission. Sections 9.1 through 9.3 of the 18 CFR states that any licensee (transferor) desiring to transfer a license and the person, association, corporation, State, or municipality (transferee) desiring to acquire the same must jointly file an application for Commission's approval of such transfer.

The application must show that the transfer is in the public interest and provide the qualifications of the transferee to hold such license and to operate the property under the license. Approval of the transfer is contingent upon the transfer of title to the properties under the license, transfer of all project files including all dam safety related documents, and delivery of all license instruments. The application for approval of transfer of license must conform to the requirements of sections 131.20 of the 18 CFR, which must include the following: application statement by all parties; verification statement; proof of citizenship; evidence of compliance by the transferor with all applicable state laws or how the transferee proposes to comply; and qualifications of the transferee to hold the license and operate the project.

The Commission uses the information collected under the requirements of FERC-511 to implement the statutory provisions of sections 8 of the Federal Power Act (FPA) and 18 CFR part 9 and 18 CFR 131.20 of the Commission's regulations. The information filed with the Commission is in the format of a written application for transfer of license, executed jointly by the parties of the proposed transfer. The Commission uses the information collected to determine the qualifications of the proposed transferee to hold the license and to prepare the transfer of the license order to make its determination.

Type of Respondent: Existing Hydropower Project Licensees and those entities wishing to have a Hydropower Project License transferred to them.

Estimate of Annual Burden: ² The Commission estimates the annual burden and cost ³ for the information collection as follows.

² Burden is defined as the total time, effort, or financial resources expended by persons to generate, maintain, retain, or disclose or provide information to or for a federal agency. See 5 CFR 1320 for additional information on the definition of information collection burden.

³ The FERC 2022 average salary plus benefits for one FERC full-time equivalent (FTE) is $188,922/year (or $91.00/hour). Commission staff estimates that the industry's skill set (wages and benefits) for completing and filing FERC-511 is comparable to the Commission's skill set.

FERC-511—Transfer of Hydropower License
| Number of respondents | Annual number of responses per respondent | Total number of responses | Average burden hrs. & cost per response | Total annual burden hours & total annual cost | Cost per respondent ($)
| (1) | (2) | (1) * (2) = (3) | (4) | (3) * (4) = (5) | (5) ÷ (1)
Hydropower Project Licensees | ⁴ 13 | 1 | 13 | 40 hrs.; $3,640 | 520 hrs.; $47,320 | ⁵ $3,640

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ The number of respondents has been reduced from 46 to 13 for this renewal; this is based on the average number of filings made in the past three years.

⁵ The cost per respondent has not actually increased between this renewal and the previous renewal, but a mathematical error has been corrected. We estimate the cost per response to be the same: $3,640.

Dated: September 15, 2022.
Kimberly D. Bose,
Secretary.

[FR Doc. 2022-20411 Filed 9-20-22; 8:45 am]

BILLING CODE 6717-01-P